ENVIRONMENTAL PROTECTION AGENCY

[FRL-6562-7]

Agency Information Collection Activities: Submission for OMB Review; Comment Request, National Emissions Standards for Coke Oven Batteries

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: National Emissions Standards for Coke Oven Batteries, part 63, subpart L; OMB No. 2060-0253; EPA No. 1362.04.; expiration date is April 30, 2000. The ICR describes the nature of the information collection and its expected burden and cost; where appropriate, it includes the actual data collection instrument.

DATES: Comments must be submitted on or before April 20, 2000.

FOR FURTHER INFORMATION CONTACT: For a copy of the ICR contact Sandy Farmer at EPA by phone at (202) 260-2740, by E-mail at farmer.sandy@epamail.epa.gov or download off the Internet at http://www.epa.gov/icr and refer to EPA ICR No. 1362.04. For technical questions about the ICR, please contact: Maria T. Malave, (202) 564-7027.

SUPPLEMENTARY INFORMATION:

Title: National Emissions Standards for Coke Oven Batteries, Part 63, Subpart L; OMB No. 2060-0253; EPA No. 1362.04; expiration date is April 30, 2000. This is a request for a revision a currently approved collection.

Abstract: These standards apply to owners or operators of by-product and non-recovery coke oven batteries, whether existing, new, reconstructed, rebuilt or restarted. It also applies to all batteries using the conventional by-product recovery, the nonrecovery process, or any new recovery process. Applicability dates vary depending on the emission limitation the affected facility is subject. The National Emissions Standards for Coke Oven Batteries were proposed on December 4, 1992 and promulgated on October 27, 1993. Under this rule, all existing batteries must choose a compliance track. Three compliance approaches are available under the rule: the “MACT (Maximum Achievable Control Technology) track,” the “LAER (Lowest Achievable Emission Rate) extension track,” and straddling both tracks (until January 1, 1998).

Owners or operators of coke oven batteries, whether existing, new, reconstructed, rebuilt or restarted, are required to comply with the following monitoring, recordkeeping and reporting requirements:

Monitoring Requirements Include:

1. Daily monitoring of coke oven batteries by a certified observer for each emission point and calculate the 30-run rolling average.

2. Daily performance tests for each coke oven battery are needed to determine compliance with the visible emission limitations for coke oven doors, topside port lids, offtake systems, and charging operations.

3. Monitoring of pollution control equipment operation and maintenance (e.g., flare system).

4. Daily inspection of the collecting main for leaks according to Method 303.

Recordkeeping Requirements Include:

1. Maintain records of the startup, shutdown, or malfunction plan developed under section 63.310.

2. Maintain records of the coke oven emission control work practice plan developed under section 63.306.

3. Maintain records of maintenance and inspection on leaks for by-product coke oven batteries.

4. Maintain records of daily operating parameters and design characteristics for nonrecovery coke oven batteries.

5. Maintain records of bypass/bleeder stack flare system or an approved alternative control device.

6. Maintain records onsite for at least a year and must thereafter be accessible within three working days upon the Administrator's request.

Reporting Requirements Include:

1. Submit one-time notifications to elect a compliance track and to certify initial compliance.

2. If applicable, respondents also would submit one-time notifications or requests for constructing a new, brownfield, or padup rebuild by-product coke oven battery using a new recovery technology; restarting a cold-idle battery shutdown prior to November 15, 1990; obtaining an exemption from control requirements for bypass/bleeder stacks by committing to permanent closure of a battery or using an equivalent alternative control system for the stacks; and obtaining an alternative standard for coke oven doors on a battery equipped with a shed.

3. If a malfunction occurred, respondents must notify the enforcement agency and follow up with a written report. A report also would be required if coke oven gas were vented through a bypass/bleeder stack and not flared as required under the rule.

4. Report for the venting of coke oven gas other than through a flare system.

5. Submit semiannual compliance certifications.

Based on recorded and reported information, EPA and states can identify compliance problems and what records or processes should be inspected at the plant. The records the plants maintain help indicate whether plants are in compliance with the standard, reveal misunderstanding about how the standard is to be implemented, and indicate to EPA whether plant personnel are operating and maintaining their process equipment properly.

Reporting and recordkeeping requirements on the part of the respondent are mandatory under sections 112 and 114 of the Clean Air Act as amended. All information submitted to the Agency for which a claim of confidentiality is made will be safeguarded according to the Agency policies set forth in Title 40, Chapter 1, part 2, subpart B—Confidentiality of Business Information (see 40 CFR part 2; 41 FR 36902, September 1, 1976; amended by 43 FR 39999, September 8, 1978; 43 FR 42251, September 28, 1978; 44 FR 17674, March 23, 1979).

An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on August 16, 1999; no comments were received.

Burden Statement: The annual public reporting and recordkeeping burden for this collection of information is estimated to average 1,804 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Owners/Operators of By-Product & Non-Recovery Coke Oven Batteries.

Estimated Number of Respondents: 25.

Frequency of Response: Semiannual.

Estimated Total Annual Hour Burden: 104,659 hours.

Estimated Total Annualized Capital and O&M Cost Burden: $0.

Send comments on the Agency's need for this information, the accuracy of the provided burden estimates, and any suggested methods for minimizing respondent burden, including through the use of automated collection techniques to the following addresses. Please refer to EPA ICR No. 1362.04 and OMB No. 2060-0253 in any correspondence.

Ms. Sandy Farmer, U.S. Environmental Protection Agency, Office of Environmental Information, Collection Strategies Division (2822), 1200 Pennsylvania, Ave., NW., Washington, DC 20460;

and

Office of Information and Regulatory Affairs, Office of Management and Budget, Attention: Desk Officer for EPA, 725 17th Street, NW., Washington, DC 20503.

Dated: March 14, 2000.
Oscar Morales,
Director, Collection Strategies Division.

[FR Doc. 00-6977 Filed 3-20-00; 8:45 am]

BILLING CODE 6560-50-P